SECURITIES AND EXCHANGE COMMISSION

[Release No. 34-99687; File No. SR-PHLX-2023-40]

Self-Regulatory Organizations; Nasdaq PHLX LLC; Notice of Withdrawal of a Proposed Rule Change, as Modified by Partial Amendment No. 1, To Amend Equity 4, Rules 3301A and 3301B To Establish New “Contra Midpoint Only” and “Contra Midpoint Only With Post-Only” Order Types and To Make Other Corresponding Changes to the Rulebook

March 7, 2024.

On August 28, 2023, Nasdaq PHLX LLC (“Exchange”) filed with the Securities and Exchange Commission (“Commission”), pursuant to section 19(b)(1) of the Securities Exchange Act of 1934 (“Act”) ¹ and Rule 19b-4 thereunder,² a proposed rule change to amend Equity 4, Rules 3301A and 3301B to establish new “Contra Midpoint Only” and “Contra Midpoint Only with Post-Only” order types and to make other corresponding changes to the rulebook. The proposed rule change was published for comment in the Federal Register on September 8, 2023.³

¹ 15 U.S.C. 78s(b)(1).

² 17 CFR 240.19b-4.

³ See Securities Exchange Act Release No. 98280 (Sept. 1, 2023), 88 FR 62129. Comments received by the Commission on the proposed rule change are available on the Commission's website at: https://www.sec.gov/comments/sr-phlx-2023-40/srphlx202340.htm.

On September 26, 2023, pursuant to section 19(b)(2) of the Act,⁴ the Commission designated a longer period within which to approve the proposed rule change, disapprove the proposed rule change, or institute proceedings to determine whether to disapprove the proposed rule change.⁵ On November 2, 2023, the Exchange filed Partial Amendment No. 1 to the proposed rule change.⁶ On December 5, 2023, the Commission published Partial Amendment No. 1 for notice and comment and instituted proceedings under section 19(b)(2)(B) of the Act ⁷ to determine whether to approve or disapprove the proposed rule change, as modified by Partial Amendment No. 1.⁸

⁴ 15 U.S.C. 78s(b)(2).

⁵ See Securities Exchange Act Release No. 98528, 88 FR 67846 (Oct. 2, 2023). The Commission designated December 7, 2023, as the date by which the Commission shall approve or disapprove, or institute proceedings to determine whether to approve or disapprove, the proposed rule change.

⁶ Amendment No. 1 is available at https://www.sec.gov/comments/sr-phlx-2023-40/srphlx202340-293100-713082.pdf.

⁷ 15 U.S.C. 78s(b)(2)(B).

⁸ See Securities Exchange Act Release No. 99083, 88 FR 85964 (Dec. 11, 2023).

On March 4, 2024, the Exchange withdrew the proposed rule change, as modified by Partial Amendment No. 1 (File No. SR-PHLX-2023-40).

⁹ 17 CFR 200.30-3(a)(12).

For the Commission, by the Division of Trading and Markets, pursuant to delegated authority.⁹
Sherry R. Haywood,
Assistant Secretary.

[FR Doc. 2024-05252 Filed 3-12-24; 8:45 am]

BILLING CODE 8011-01-P